FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

H.T.L. Logistics India Private Limited, Plot No. 40/A, Doddenkundi, 2nd Phase, K.R. Puram, Bangalore 560048 India, Officers: Bakesh Suri, Director (Qualifying Individual), Ahamed R. Farook, Chairman.

CSLL Logistics Inc., 208 E. Elgin Street, Ste. #8, Alhambra, CA 91801, Officers: Lizhen Yang, President (Qualifying Individual) Meifen, Shen, Vice President.

American Patriot Lines, Inc. dba Transcon Shipping Company, 6242 Westchester Pkwy., Los Angeles, CA 90045, Officer: Ching Wahleung, Treasurer (Qualifying Individual).

SMC Project Management, LLC, 23825 Anza Ave., Ste. 235, Torrance, CA 90505, Officers: Minkyong J. Lee, Member (Qualifying Individual), Joon Park, Member.

Global Cargo Connection dba Realco Logistics, USA, 370 Amapola Ave., Ste. 108, Torrance, CA 90501, Officer: Steve Lee, President (Qualifying Individual).

Seaborn Containers and Shipping LLC, 4525 Roosevelt Highway, Union City, GA 30349, Officers: Frank Obeng, Manager (Qualifying Individual), Michael B. McKnight, Owner.

Foremost Int'l Freight Services Corp., 154-09 146th Ave., 3rd Floor, Jamaica, NY 11434, Officers: Hong Jeh Wang, President (Qualifying Individual).

Speedfreight Transport, LLC dba Speedfreight Cargo Transport, 1012 Grand Champion Drive, Rockville, MD 20850, Officer: Cristina T. Ignacio, Managing Member (Qualifying Individual).

Poseidon Logistics, Inc., 3014 20th Ave., San Francisco, CA 94132, Officers: An T. Li, Secretary (Qualifying Individual), Geuangwei Shan, CEO.

Non-Vessel Operating Common Carrier and Ocean Freight Forwarder Transportation Intermediary Applicants

Global Cargo Express, Inc., 500 Confederate Ave., Portsmouth, VA 23704. Officer: Nerijus Bertasius, President (Qualifying Individual).

Movendo USA, Inc., 1110 South Avenue, Ste. 33, Staten Island, NY 10314, Officers: Genevieve Fortunato, Secretary (Qualifying Individual), Mauro Moretti, President.

Formosa Container Line, Inc., 18811 Crenshaw Place, Torrance, CA 90504, Officer: Anthony C. Chiu, Gen. Manager (Qualifying Individual).

Trans Global Auto Logistics, Inc. dba Auto Express Lines, 2454 NW. Dallas Street, Grand Prairie, TX 75050, Officer: Sandra K. Lester, President (Qualifying Individual).

Base Ventures International, 7920 Zane Ave. N., Ste. 214, Brooklyn Park, MN 55443, Oluwaseyi E. Olawore, Sole Proprietor.

Safeway Shipping and Clearing Services Inc., 3615 Willowbend Blvd., Ste. 414, Houston, TX 77054, Officers: Abiola S. Iyiola, CEO (Qualifying Individual). Ishola O. Iyiola, Corp. Secretary.

Overseas Shipping Ltd., The World Trade Center, 401 Pratt St., Suite 2522, Baltimore, MD 21202, Officers: Sharon L. Palmer, Vice President (Qualifying Individual). Makram Kais, President.

Selim Logistics System USA, Inc. dba Uni Global Logistics, 6492 New Albany Road, Lisle, IL 60532, Officer: Young F. Lee, Treasurer (Qualifying Individual).

Kerry Freight (USA) Incorporated, 880 Apollo Street, El Segundo, CA 90245, Officers: Jesper Malmskov, Asst. Vice President (Qualifying Individual), Lui K. Ming, President.

3Plus Logistics Co., 20250 S. Alameda Street, Rancho Dominguez, CA 90221, Officer: Kyung S. Kim, Treasurer (Qualifying Individual).

Seapack Inc., 2820 NW. 105th Ave., #B, Miami, FL 33172, Officer: Roland L. Malins-Smith, President (Qualifying Individual).

Aerospace Logistics Group, LLC, 9538 South Clifton Park Ave., Evergreen Park, IL 60805, Officers: Wallace P. Tripplett, Vice President (Qualifying Individual), Andrea Y. McFerren, President.

JEM Star Cargo LLC, 94-1079 Lumiaina Street, Waipahu, HI 96797, Officer: Jocelyn L. Ramelb, Managing Member (Qualifying Individual).

M and L Trucking Incorporated, One Revere Park, Rome, NY 13440, Officers: John J. Sepela, Asst to the Secretary (Qualifying Individual), Joseph F. Mammone, President.

International Shipping Company dba ISC Shipping, 2727 Beech Daly Rd., Dearborn Height, MI 48125, Officers: Nachaat Mazeh, President (Qualifying Individual), Ibrahim Mazeh, Director.

Sea Freight Inc., 12550 Biscayne Blvd., Miami, FL 33181, Officer: Michael Lyamport, President (Qualifying Individual).

American Freight Line-Southeast, Inc., 671 NW. 4th Ave., Fort Lauderdale, FL 33311, Officer: Gabrille Heinrichs, President (Qualifying Individual).

Katt Worldwide Logistics, Inc., 4105 S. Mendenhall, Memphis, TN 38115, Officer: Verna Kim (Qualifying Individual).

Priority Air Express, LLC dba Priority Marine Express, 11 Technology Drive, Swedesboro, NJ 08085, Officers: William Freidel, Vice President (Qualifying Individual), Christopher Carpenter, President.

Ocean Freight Forwarder—Ocean Transportation Intermediary Applicants

Total Global Solutions, Inc., 4290 Bells Ferry Road, #224, Kennesaw, GA 30144, Officers: Natasha Gardner, Vice President (Qualifying Individual), Dennis R. Smith, President.

Brave Cargo Inc., 8155 NW. 68 Street, Miami, FL 33166, Officer: Pemig J. Fuentes, President (Qualifying Individual).

Reliable Shipping Services Corp., 10 Fifth Street, Ste. 402, Valley Stream, NY 11581, Officers: Eleonora L. Chiavelli, President (Qualifying Individual), Gloria Chiavelli, Vice President.

American Courier Express LLC dba 1 Stop Pack N Ship, 785 Rockville Pike, #F, Rockville, MD 20852, Officer: Khosrow R. Ranjkesh, President (Qualifying Individual).

Caribbean Logistic Solutions, Inc., 11200 NW. 25 Street, Miami, FL 33172, Officer: Wanda Cruz, President (Qualifying Individual).

Rom Enterprise, Inc. dba Monark Worldwide, 22122 Sherman Way, #203, Canoga Park, CA 91303, Officers: Leo Alvidera, Vice President (Qualifying Individual), Rommel De Ocampo, President.

Dated: March 27, 2009.
Karen V. Gregory,
Secretary.

[FR Doc. E9-7313 Filed 3-31-09; 8:45 am]

BILLING CODE 6730-01-P